DEPARTMENT OF ENERGY

Federal Energy Regulatory Commission

[Docket No. AD20-25-000]

Electronic Document Management System (eLibrary) Enhancements; Notice Announcing Release of Modernized eLIBRARY System

The Federal Energy Regulatory Commission (Commission), hereby gives notice announcing upcoming enhancements to its Electronic Document Management System (eLibrary), that will be available the week of August 3. The Commission plans to upgrade its existing system with newer, more robust and user-friendly technology. Ultimately, the new system will provide users with an improved user interface, more reliable search capabilities and greater system stability.

This version includes, but is not limited to the following enhancements:

• A modern look and feel to the eLibrary site

• Improved navigation and consolidated search screens

• Removal of redundant features

• Improved search accuracy and relevance

• On-Demand PDF generation for files in an accession

• Multiple file zip and download from the search results

• Improved reliability

Please see https://www.ferc.gov/ for additional details on FERC's modernized eLibrary system, including additional information on file formats, text searchable versus image formats, file names, security, et al.

Dated: July 31, 2020.
Nathaniel J. Davis, Sr.,
Deputy Secretary.

[FR Doc. 2020-17193 Filed 8-5-20; 8:45 am]

BILLING CODE 6717-01-P